DEPARTMENT OF ENERGY

Federal Energy Regulatory Commission

[Docket No. ER01-1738-000]

Idaho Power Company; Notice of Filing

May 16, 2001.

Take notice that on May 2, 2001, Idaho Power Company tendered for filing a Notice of Withdrawal of its rate filing of a Firm and Non-Firm Point to Point Transmission Service Agreement with Merchant Energy Group of the Americas, under Idaho Power Company's FERC Electric Tariff, First Revised Volume No. 5, Open Access Transmission Tariff.

Any person desiring to be heard or to protest such filing should file a motion of intervene or protest with the Federal Energy Regulatory Commission, 888 First Street, NE., Washington, DC 20426, in accordance with Rules 211 and 214 of the Commission's Rules and Practice and Procedure (18 CFR 385.211 and 385.214). All such motions and protests should be filed on or before May 23, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-12786 Filed 5-21-01; 8:45 am]

BILLING CODE 6717-01-M